DEPARTMENT OF ENERGY

Federal Energy Regulatory Commission

[Docket No. CP03-335-000]

Calpine Corporation and Otay Mesa Generating Company, LLC; Notice of Application

July 24, 2003.

Take notice that on July 15, 2003, Calpine Corporation (Calpine) and Otay Mesa Generating Company, LLC (Otay Mesa) (the Applicants), both at 50 West San Fernando Street, San Jose, California 95113, filed, pursuant to Section 3 of the Natural Gas Act (NGA) and part 153 of the Commission's regulations, an application in Docket No. CP03-335-000, to amend the Section 3 authorization and Presidential Permit issued to Otay Mesa in Docket No. CP01-145-000 to insert Calpine's name in lieu of Otay Mesa, as more fully described in the application. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

The Applicants state that Otay Mesa's border crossing facilities authorized in Docket No. CP01-145-000 are located near San Diego, California at the United States/ Mexico border and are intended to import natural gas to fuel Otay Mesa's new power generation plant located 1.5 miles north of the border crossing facilities. Applicants explain that Otay Mesa, a wholly-owned subsidiary of Calpine, will be merged with and into Calpine as part of an internal restructuring of Calpine assets necessary to secure additional financing. Applicants further state that Calpine will be the successor to Otay Mesa's interest in the border crossing facilities with no change in the terms and conditions of the Section 3 authorization and Presidential Permit.

Applicants also state that they did not conclusively determine that the merger would occur until July 9, 2003, and that the merger was expected to occur on or about July 16, 2003. Section 3 authorization and Presidential Permit are not transferrable, thus, Applicants request that the Commission waive the prior authorization requirements because the merger and the collateral thus provided for a needed bond sale is important to maintaining the financial strength of Calpine and constitute extraordinary circumstances which justify the requested waiver.

Any questions regarding this application should be directed to Daniel M. Adamson, Davis Wright Tremaine LLP, 1500 K Street, NW., Suite 450, Washington, DC 20005, or call (202) 508-6640 or FAX (202) 508-6699.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project.

This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Protests and interventions may be filed electronically via the internet in lieu of paper; see 18 CFR 385.2001(a)(1)(iii) and the instructions on the Commission's Web site under the “e-Filing” link. The Commission strongly encourages electronic filings.

Comment Date: August 14, 2003.

Magalie R. Salas,
Secretary.

[FR Doc. 03-19379 Filed 7-30-03; 8:45 am]

BILLING CODE 6717-01-P